DEPARTMENT OF THE INTERIOR

National Park Service

Notice of Inventory Completion: Museum of Anthropology, University of Michigan, Ann Arbor, MI

AGENCY: National Park Service, Interior.

ACTION: Notice.

Notice is here given in accordance with the Native American Graves Protection and Repatriation Act (NAGPRA), 25 U.S.C. 3003, of the completion of an inventory of human remains in the possession of the Museum of Anthropology, University of Michigan, Ann Arbor, MI. The human remains were removed from the Wequetonsing area near Harbor Springs, Emmet County, MI.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Museum of Anthropology professional staff in consultation with representatives of the Little Traverse Bay Bands of Odawa Indians, Michigan.

In 1924, a collection containing human remains and a variety of archeological materials collected from around Michigan and North America was purchased by the University of Michigan from Rev. L.P. Rowland of Detroit, MI. The human remains and many of the artifacts were recovered from the Lake Michigan shore area in Emmet County, MI. A substantial portion of this collection, including one set of human remains (Accession #206) and cultural items were determined to be culturally affiliated with the Little Traverse Bay Bands of Odawa Indians, Michigan. The individual and cultural items were described in a Notice published in the Federal Register (62 FR 8265-8266, February 24, 1997), and were subsequently repatriated later that same year. At that time it was determined that two comingled sets of human remains that were part of the same accession were not Native American. The human remains are of an adult and a second, younger adult individual. Since that time, based on skeletal and dental morphology, the older individual has been identified as being of mixed European and Native American ancestry. There is insufficient evidence to positively determine the biological affiliation of the younger individual, but they may also be of mixed European and Native American ancestry. No known individuals were identified. No associated funerary objects are present.

Accession and other collections information suggests that the human remains were recovered from the Wequetonsing area near Harbor Springs, MI. Rev. Rowland's catalog indicates that glass beads were found with the human remains. Based on the observation of glass trade beads, the human remains most likely date to the post-contact era in northern Michigan (circa A.D. 1600-1800).

Based on historical documents and consultation with the Little Traverse Bay Bands of Odawa Indians, Michigan, the Odawa occupied the Wequetonsing area throughout much of the historic era. The Wequetonsing area is within the area granted to the Odawa for settlement in treaties signed in 1836 and 1855, and is within the current reservation boundary of the Little Traverse Bay Bands of Odawa Indians, Michigan. While historic sources also mention the presence of Potawatomi, Mascouten, and Ojibwa in the general area, the Odawa are the predominant group associated with the Wequetonsing and Harbor Springs locality.

While the biological ancestry of the two individuals may be mixed, based on the burial treatment of the individual, appearance of grave features as described by Rev. Rowland, and consultation with tribal representatives, officials of the Museum of Anthropology reasonably believe the human remains have a Native American cultural identity. Based on the observation of glass beads, the interments likely date to the historic era. Given the location of the interments, they are most likely culturally affiliated with the Little Traverse Bay Bands of Odawa Indians, Michigan.

Officials of the Museum of Anthropology, University of Michigan have determined that, pursuant to 25 U.S.C. 3001 (9-10), the human remains described above represent the physical remains of two individuals of Native American ancestry. Officials of the Museum of Anthropology, University of Michigan also have determined that, pursuant to 25 U.S.C. 3001 (2), there is a relationship of shared group identity that can be reasonably traced between the Native American human remains and the Little Traverse Bay Bands of Odawa Indians, Michigan.

Representatives of any other Indian tribe that believes itself to be culturally affiliated with the human remains should contact Dr. John O'Shea, NAGPRA Coordinator, Museum of Anthropology, University of Michigan, Ann Arbor, MI 48109-1079, telephone (734) 764-0485, before September 21, 2009. Repatriation of the human remains to the Little Traverse Bay Bands of Odawa Indians, Michigan may proceed after that date if no additional claimants come forward.

The Museum of Anthropology, University of Michigan is responsible for notifying the Little Traverse Bay Bands of Odawa Indians, Michigan that this notice has been published.

Dated: July 16, 2009.
Sherry Hutt,
Manager, National NAGPRA Program.

[FR Doc. E9-19970 Filed 8-19-09; 8:45 am]

BILLING CODE 4312-50-S